SECURITIES AND EXCHANGE COMMISSION

[Release No. 34-78040; File No. 265-29]

Equity Market Structure Advisory Committee Meeting

AGENCY: Securities and Exchange Commission.

ACTION: Notice of telephonic meeting.

SUMMARY: The Securities and Exchange Commission Equity Market Structure Advisory Committee is providing notice that it will hold an open, public telephone meeting on Friday, July 8, 2016, beginning at 2:00 p.m. (EDT). Members of the public may attend the meeting by listening to the webcast accessible on the Commission's Web site at www.sec.gov. Persons needing special accommodations to take part because of a disability should notify the contact person listed below. The agenda for the meeting includes presentations by the Regulation NMS and Trading Venues Regulations subcommittee chairs and consideration of a recommendation for an access fee pilot and recommendations related to trading venues regulation. The public is invited to submit written statements to the Committee.

DATES: The public telephonic meeting will be held on Friday, July 8, 2016. Written statements should be received on or before July 5, 2016.

ADDRESSES: Written statements may be submitted by any of the following methods:

Electronic Statements

Use the Commission's Internet submission form (http://www.sec.gov/rules/other.shtml); or

Send an email message to rules-comments@sec.gov. Please include File No. 265-29 on the subject line; or

Paper Statements

Send paper statements to Brent J. Fields, Secretary, Securities and Exchange Commission, 100 F Street NE., Washington, DC 20549-1090.

All submissions should refer to File No. 265-29. This file number should be included on the subject line if email is used. To help us process and review your statement more efficiently, please use only one method.

Statements also will be available for Web site viewing and printing in the Commission's Public Reference Room, 100 F Street NE., Room 1580, Washington, DC 20549, on official business days between the hours of 10:00 a.m. and 3:00 p.m. All statements received will be posted without change; we do not edit personal identifying information from submissions. You should submit only information that you wish to make available publicly.

FOR FURTHER INFORMATION CONTACT: Arisa Tinaves Kettig, Senior Special Counsel, Division of Trading and Markets, at (202) 551-5676, Securities and Exchange Commission, 100 F Street NE., Washington, DC 20549-7010.

SUPPLEMENTARY INFORMATION: In accordance with Section 10(a) of the Federal Advisory Committee Act, 5 U.S.C.-App. 1, and the regulations thereunder, Stephen Luparello, Designated Federal Officer of the Committee, has ordered publication of this notice.

Dated: June 10, 2016.
Brent J. Fields,
Committee Management Officer.

[FR Doc. 2016-14199 Filed 6-15-16; 8:45 am]

BILLING CODE 8011-01-P